DEPARTMENT OF COMMERCE

International Trade Administration

[C-570-054]

Certain Aluminum Foil From the People's Republic of China: Final Results of Countervailing Duty Administrative; 2021

AGENCY: Enforcement and Compliance, International Trade Administration, Department of Commerce.

SUMMARY: The U.S. Department of Commerce (Commerce) determines that countervailable subsidies were provided to certain exporters/producers of certain aluminum foil (aluminum foil) from the People's Republic of China (China) during the period of review (POR) January 1, 2021, through December 31, 2021.

DATES: Applicable November 2, 2023.

FOR FURTHER INFORMATION CONTACT: Natasia Harrison, AD/CVD Operations, Office VI, Enforcement and Compliance, International Trade Administration, U.S. Department of Commerce, 1401 Constitution Avenue NW, Washington, DC 20230; telephone: (202) 482-1240.

SUPPLEMENTARY INFORMATION:

Background

On May 4, 2023, Commerce published the Preliminary Results of this administrative review in the Federal Register.¹ For a complete description of the events that occurred since the Preliminary Results, see the Issues and Decision Memorandum.²

¹ See Certain Aluminum Foil from the People's Republic of China: Preliminary Results of Countervailing Duty Administrative Review and Rescission of Review, in Part; 2021, 88 FR 28496 (May 4, 2023) (Preliminary Results), and accompanying Preliminary Decision Memorandum.

² See Memorandum, “Issues and Decision Memorandum for the Final Results of the Countervailing Duty Administrative Review of Certain Aluminum Foil from the People's Republic of China; 2021,” dated concurrently with, and hereby adopted by, this notice (Issues and Decision Memorandum).

Scope of the Order ³

³ See Certain Aluminum Foil from the People's Republic of China: Amended Final Affirmative Countervailing Duty Determination and Countervailing Duty Order, 83 FR 17360 (April 19, 2018); see also Certain Aluminum Foil from the People's Republic of China: Notice of Court Decision Not in Harmony With the Amended Final Determination in the Countervailing Duty Investigation, and Notice of Amended Final Determination and Amended Countervailing Duty Order, 85 FR 47730 (August 6, 2020) (collectively, Order).

The product covered by the scope of the Order is aluminum foil from China. A full description of the scope of the Order is contained in the Issues and Decision Memorandum.

Analysis of Comments Received

All issues raised by the interested parties in their case and rebuttal briefs are addressed in the Issues and Decision Memorandum. A list of topics discussed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of comments from interested parties and the evidence on the record, we revised the calculation of the net countervailable subsidy rates for Jiangsu Zhongji Lamination Materials Co., Ltd. (f/k/a Jiangsu Zhongji Lamination Materials Stock Co., Ltd.) (Zhongji). For a discussion of these changes, see the Issues and Decision Memorandum.

Methodology

Commerce conducted this administrative review in accordance with section 751(a)(1)(A) of the Tariff Act of 1930, as amended (the Act). For each of the subsidy programs found to be countervailable, we find that there is a subsidy, i.e., a government-provided financial contribution that gives rise to a benefit to the recipient, and that the subsidy is specific.⁴ For a complete description of the methodology underlying all of Commerce's conclusions, including our reliance, in part, on facts otherwise available, including adverse facts available, pursuant to sections 776(a) and (b) of the Act, see the Issues and Decision Memorandum.

⁴ See sections 771(5)(B) and (D) of the Act regarding financial contribution; section 771(5)(E) of the Act regarding benefit; and section 771(5A) of the Act regarding specificity.

Companies Not Selected for Individual Review

The statute and Commerce's regulations do not address the establishment of a rate to be applied to companies not selected for individual examination when Commerce limits its examination in an administrative review pursuant to section 777A(e)(2) of the Act. However, Commerce normally determines the rates for non-selected companies in reviews in a manner that is consistent with section 705(c)(5) of the Act, which provides the basis for calculating the all-others rate in an investigation. Section 705(c)(5)(A)(i) of the Act instructs Commerce, as a general rule, to calculate the all-others rate equal to the weighted average of the countervailable subsidy rates established for exporters and producers individually investigated, excluding any zero or de minimis countervailable subsidy rates, and any rates determined entirely on the basis of facts available.

There are 10 companies for which a review was requested and not rescinded, and which were not selected as mandatory respondents or found to be cross-owned with Zhongji, the mandatory respondent. For these non-selected companies, because the rate calculated for the only participating mandatory respondent in this review, Zhongji, was above de minimis and not based entirely on facts available, we are applying Zhongji's subsidy rate to the 10 non-selected companies.

This is the same methodology Commerce applied in the Preliminary Results for determining a rate for companies not selected for individual examination. However, due to changes in the calculation for Zhongji, we revised the non-selected rate accordingly. Consequently, for the 10 non-selected companies for which a review was requested and not rescinded, we are applying an ad valorem subsidy rate of 25.32 percent.⁵

⁵ This reflects the net countervailable ad valorem subsidy rate without the entered value adjustment (EVA). See Issues and Decision Memorandum at 4.

Final Results of Review

We determine the following net countervailable subsidy rates exist for the period January 1, 2021, through December 31, 2021:

⁶ In the first administrative review of the Order, Commerce found the following companies to be cross-owned: Anhui Maximum Aluminium Industries Company Ltd.; Jiangsu Huafeng Aluminum Industry Co., Ltd.; Jiangsu Zhongji Lamination Materials Co., Ltd. (f/k/a Jiangsu Zhongji Lamination Materials Stock Co., Ltd.); Jiangsu Zhongji Lamination Materials Co., (HK) Ltd.; Shantou Wanshun Package Material Stock Co., Ltd.; and Anhui Maximum Aluminium Industries Company Ltd. The subsidy rate applies to all cross-owned companies. See Certain Aluminum Foil from the People's Republic of China: Final Results of the Countervailing Duty Administrative Review; 2017-2018, 86 FR 12171 (March 2, 2021). While the petitioners (i.e., the Aluminum Association Trade Enforcement Working Group and its individual members: JW Aluminum Company, Novelis Corporation, and Reynolds Consumer Products, LLC) withdrew their review requests for Anhui Maximum Aluminium Industries Company Ltd., Jiangsu Huafeng Aluminum Industry Co., Ltd., and Shantou Wanshun Package Material Stock Co., Ltd., because these companies were previously found to be cross-owned with a company which is subject to this review, we have not rescinded the review with respect to these companies.

⁷ This net countervailable ad valorem subsidy rate reflects an EVA. See Issues and Decision Memorandum at 4.

⁸ The rates reflect the ad valorem net countervailable subsidy rate without the entered value adjustment EVA. See Issues and Decision Memorandum at 4.

Producer or exporter | Subsidy rate (percent ad valorem)
Anhui Zhongji Battery Foil Science & Technology Co., Ltd. (aka Anhui Zhongji Battery Foil Sci&Tech Co., Ltd.); Jiangsu Huafeng Aluminum Industry Co., Ltd.; Jiangsu Zhongji Lamination Materials Co., Ltd. (f/k/a Jiangsu Zhongji Lamination Materials Stock Co., Ltd.); Jiangsu Zhongji Lamination Materials Co., (HK) Limited; and Shantou Wanshun New Material Group Co., Ltd. (f/k/a Shantou Wanshun Package Material Stock Co., Ltd.) ⁶ | ⁷ 24.49
Review-Specific Rate Applicable to the Following Companies ⁸
Dingsheng Aluminum Industries (Hong Kong) Trading Co., Ltd.; Hangzhou DingCheng Aluminum Co., Ltd.; Hangzhou Dingsheng Import & Export Co. Ltd.; Hangzhou Dingsheng Industrial Group Co. Ltd.; Hangzhou Five Star Aluminium Co., Ltd.; Hangzhou Teemful Aluminum Co., Ltd.; Jiangsu Dingsheng New Materials Joint-Stock Co., Ltd; Luoyang Longding Aluminum Co., Ltd.; and Walson (HK) Trading Co., Limited ⁹ | 25.32
Luoyang Longding Aluminium Industries Co., Ltd | 25.32
Shanghai Shenyan Packaging Materials Co., Ltd | 25.32

Disclosure

⁹ In the investigation, Commerce found the following companies to be cross-owned: Dingsheng Aluminum Industries (Hong Kong) Trading Co., Ltd.; Hangzhou DingCheng Aluminum Co., Ltd.; Hangzhou Dingsheng Import & Export Co. Ltd.; Hangzhou Dingsheng Industrial Group Co. Ltd.; Hangzhou Five Star Aluminium Co., Ltd.; Hangzhou Teemful Aluminum Co., Ltd.; Jiangsu Dingsheng New Materials Joint-Stock Co., Ltd.; Luoyang Longding Aluminum Co., Ltd.; and Walson (HK) Trading Co., Limited. The subsidy rate applies to all cross-owned companies. See Order.

Commerce intends to disclose calculations and analysis performed for the final results of review within five days after the date of publication of this notice in the Federal Register in accordance with 19 CFR 351.224(b).

Cash Deposit Requirements

In accordance with section 751(a)(1) of the Act, Commerce also intends to instruct U.S. Customs and Border Protection (CBP) to collect cash deposits of estimated countervailing duties in the amounts shown above for the above-listed companies with regard to shipments of subject merchandise entered, or withdrawn from warehouse, for consumption on or after the date of publication of these final results of review. For all non-reviewed firms, we will instruct CBP to continue to collect cash deposits of estimated countervailing duties at the all-others rate or the most recent company-specific rate applicable to the company, as appropriate. These cash deposit requirements, effective upon publication of these final results, shall remain in effect until further notice.

Assessment Requirements

In accordance with section 751(a)(2)(C) of the Act and 19 CFR 351.212(b)(2), Commerce has determined, and CBP shall assess, countervailing duties on all appropriate entries covered by this review, for the above-listed companies at the applicable ad valorem assessment rates listed. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

The final results are issued and published in accordance with sections 751(a)(1) and 777(i)(1) of the Act and 19 CFR 351.221(b)(5).

Dated: October 27, 2023.
Lisa W. Wang,
Assistant Secretary for Enforcement and Compliance.

Appendix

List of Topics Discussed in the Issues and Decision Memorandum

I. Summary

II. Background

III. Scope of the Order

IV. Non-Selected Companies Under Review

V. Subsidies Valuation

VI. Use of Facts Otherwise Available and Application of Adverse Inferences

VII. Analysis of Programs

VIII. Discussion of the Issues

Comment 1: Whether Commerce Should Make an Adverse Inference to Find that Jiangsu Zhongji Lamination Materials Co., Ltd. (f/k/a/Jiangsu Zhongji Lamination Materials Stock Co., Ltd.) (Zhongji) Benefited from the Export Buyer's Credit (EBC) Program

Comment 2: Whether Commerce Should Grant Zhongji an Entered Value Adjustment (EVA)

Comment 3: Whether Commerce Should Revise Zhongji's Total Sales Denominators

Comment 4: Whether the Provision of Electricity for Less Than Adequate Remuneration (LTAR) Is Countervailable

Comment 5: Whether Commerce Should Revise the Benefit Calculation for the Provision of Electricity for LTAR

Comment 6: Whether Commerce Should Find that the Input Producers Are Government Authorities

Comment 7: Whether Commerce Should Continue to Make an Adverse Inference to Find Distortion in the Primary Aluminum and Aluminum Plate and/or Sheet and Strip Markets

Comment 8: Whether Commerce Should Modify the Benchmark for Aluminum Plate and/or Sheet and Strip

Comment 9: Whether Warehousing Fees Should Be Included in the Benchmark for Primary Aluminum

Comment 10: Whether Commerce Should Adjust the Inland Freight Benchmark for the Provision of Primary Aluminum and Aluminum Plate and/or Sheet and Strip for LTAR Programs

Comment 11: Whether Commerce Should Revise the Benchmark for the Provision of Land for LTAR

Comment 12: Whether Commerce Should Revise the Benefit Calculations for the Provision of Land for LTAR and the Import Tariff and Value-Added Tax (VAT) Exemptions on Imported Equipment in Encouraged Industries Program

Comment 13: Whether Commerce Should Apply Adverse Facts Available (AFA) to Self-Reported “Other Subsidies”

Comment 14: Whether Commerce Should Select Hangzhou Five Star Aluminium Co., Ltd., and Its Affiliates, as an Additional Mandatory Respondent

IX. Recommendation

[FR Doc. 2023-24253 Filed 11-1-23; 8:45 am]

BILLING CODE 3510-DS-P